DEPARTMENT OF ENERGY

Federal Energy Regulatory Commission

[Docket No. ER04-902-001, et al.]

Oklahoma Gas and Electric Company, et al.; Electric Rate and Corporate Filings

March 17, 2005.

The following filings have been made with the Commission. The filings are listed in ascending order within each docket classification.

1. Oklahoma Gas and Electric Company

[Docket Nos. ER04-902-001]

Take notice that on March 11, 2005, Oklahoma Gas and Electric Company (OG&E) submitted Rate Schedule No. 126, a rate schedule for service to the Oklahoma Municipal Power Authority. OG&E states that Rate Schedule 126 was inadvertently cancelled by the Commission in a letter order issued February 17, 1999 in Docket No. ER99-1376-000. OG&E's filing also contained a motion for reconsideration of the letter order issued February 17, 1999 in Docket No. ER99-1376-000 and a motion to reinstate the cancelled Rate Schedule.

OG&E states that copies of the filing were served upon the parties in Docket Nos. ER99-1376-000 and ER04-902-000.

Comment Date: 5 p.m. Eastern Time on April 1, 2005.

2. New England Power Pool

[Docket No. ER05-52-001]

Take notice that on March 14, 2005, the New England Power Pool (NEPOOL) Participants Committee and ISO New England, Inc. (the ISO) jointly filed amended Hydro-Quebec Interconnection Capability Credit (HQICC) values for the 2005/2006 Power Year which are to replace the HQICC values initially filed on October 18, 2004. NEPOOL and the ISO state that this filing was made in response to the letter order issued on December 13, 2004 in Docket No. ER05-52-000.

NEPOOL states that copies of these materials were sent to the NEPOOL Participants and the New England state governors and regulatory commissions.

Comment Date: 5 p.m. Eastern Time on March 30, 2005.

3. Old Dominion Electric Cooperative

[Docket No. ER05-682-000]

Take notice that on March 7, 2005, Old Dominion Electric Cooperative (Old Dominion) tendered for filing a new proposed rate schedule for providing cost-based Reactive Power and Voltage Control from Generation Sources Service from Old Dominion's natural gas-fired generating facility located in Rock Springs, Maryland.

Old Dominion states that a copy of the filing has been mailed to representatives of PJM Interconnection, L.L.C.

Comment Date: 5 p.m. Eastern Time on March 28, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1288 Filed 3-23-05; 8:45 am]

BILLING CODE 6717-01-P